DEPARTMENT OF HOMELAND SECURITY

Federal Emergency Management Agency

[Docket ID: FEMA-2022-0015; OMB No. 1660-0117]

Agency Information Collection Activities: Submission for OMB Review; Comment Request; FEMA's Grants Reporting Tool (GRT)

AGENCY: Federal Emergency Management Agency, Department of Homeland Security.

ACTION: 30-Day notice of reinstatement and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 4, 2022.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Jennifer Garza, Acting Senior Advisor, jennifer.garza@fema.dhs.gov or (202) 786-9602.

SUPPLEMENTARY INFORMATION: The Grants Reporting Tool (GRT) is a web-based reporting system designed to help State Administrative Agencies (SAAs) meet all reporting requirements as identified in the grant guidance of FEMA's portfolio of preparedness grants managed by the FEMA's Grant Programs Directorate (GPD).

Title 2 CFR, part 200 (Uniform Administrative Requirements, Cost Principles, and Audit Requirements for Federal Awards), establishes uniform administrative rules for assistance awards and subawards to state, local, tribal and territorial (SLTT) governments. FEMA determined that it is necessary to automate the grant reporting process to have consistent implementation of FEMA grant administration policies to reduce duplicative and tedious data entry, to measure preparedness gains more effectively, and to streamline application submission and management for recipients and subrecipients.

Title XX of the Homeland Security Act of 2002 authorizes the Secretary of Homeland Security, acting through the FEMA Administrator, to provide grants to assist SLTT governments in preventing, preparing for, protecting against, and responding to acts of terrorism. Recipients use the GRT to submit annual investment justifications and biannual progress reports. Further, section 2022 of the Homeland Security Act of 2002 (6 U.S.C. 612) mandates that FEMA review grants awarded to states and high-risk urban areas at least every two years and requires that recipients submit annual reports on the use of funds awarded under sections 2003 or 2004 of the Homeland Security Act of 2002 (6 U.S.C. 604, 605, respectively). Section 2022 also provides DHS the authority to have full access to information regarding activities carried out under any grant DHS administers.

Additionally, Section 662 of the Post-Katrina Emergency Management Reform Act of 2006 (PKEMRA), as amended, (Pub. L. 109-295) (6 U.S.C. 762); the Robert T. Stafford Disaster Relief and Emergency Assistance Act, as amended (Pub. L. 93-288) (42 U.S.C. 5121 et seq.); the Earthquake Hazards Reduction Act of 1977, as amended (Pub. L. 95-124) (42 U.S.C. 7701 et seq.); and the National Flood Insurance Act of 1968, as amended (Pub. L. 90448) (42 U.S.C. 4001 et seq.), authorize FEMA to administer the Emergency Management Performance Grant (EMPG) Program. The primary purpose of the EMPG program is to provide grants to assist SLTT emergency management agencies to implement the National Preparedness System (NPS) and to support the National Preparedness Goal of a secure and resilient nation. Recipients of funding under this authorization use the GRT to submit biannual progress reports.

This proposed information collection previously published in the Federal Register on May 23, 2022, at 87 FR 31253 with a 60 day public comment period. No comments were received. This information collection expired on May 31, 2020. FEMA is requesting a reinstatement, without change, of a previously approved information collection for which approval has expired. The purpose of this notice is to notify the public that FEMA will submit the information collection abstracted below to the Office of Management and Budget for review and clearance.

Collection of Information

Title: FEMA's Grants Reporting Tool (GRT).

Type of Information Collection: Reinstatement, without change, of a previously approved collection for which approval has expired.

OMB Number: 1660-0117.

FEMA Forms: FEMA Form FF-207-FY-22-121, Biannual Strategy Implementation Report (BSIR).

Abstract: The GRT is a web-based reporting system designed to help recipients meet all reporting requirements as identified in the grant guidance of FEMA's portfolio of preparedness grants sponsored by the agency's Grant Programs Directorate (GPD). The information enables FEMA to evaluate applications and make award decisions, monitor ongoing performance, and manage the flow of Federal funds, and to appropriately close out grants. GRT supports the information collection needs of each grant program processed in the system.

Affected Public: State, Local or Tribal government.

Estimated Number of Respondents: 81.

Estimated Number of Responses: 162.

Estimated Total Annual Burden Hours: 2,471.

Estimated Total Annual Respondent Cost: $111,442.

Estimated Respondents' Operation and Maintenance Costs: $0.

Estimated Respondents' Capital and Start-Up Costs: $0.

Estimated Total Annual Cost to the Federal Government: $1,259,210.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-21557 Filed 10-4-22; 8:45 am]

BILLING CODE 9111-78-P